DEPARTMENT OF DEFENSE

Office of the Secretary

[Docket ID: DOD-2017-OS-0061]

Submission for OMB Review; Comment Request

AGENCY: Office of the Under Secretary of Defense for Acquisition, Technology and Logistics, DOD.

ACTION: 30-day information collection notice.

SUMMARY: The Department of Defense has submitted to OMB for clearance, the following proposal for collection of information under the provisions of the Paperwork Reduction Act.

DATES: Consideration will be given to all comments received by November 27, 2017.

ADDRESSES: Comments and recommendations on the proposed information collection should be emailed to Ms. Jasmeet Seehra, DoD Desk Officer, at Oira_submission@omb.eop.gov. Please identify the proposed information collection by DoD Desk Officer and the Docket ID number and title of the information collection.

FOR FURTHER INFORMATION CONTACT: Fred Licari, 571-372-0493, or whs.mc-alex.esd.mbx.dd-dod-information-collections@mail.mil.

SUPPLEMENTARY INFORMATION: Title, Associated Form and OMB Number: Assessing and Strengthening the Manufacturing and Defense Industrial Base Supply Chain Resiliency of the United States; OMB Control Number 0704-XXXX.

Type of Request: Emergency.

Number of Respondents: 300.

Responses per Respondent: 1.

Annual Responses: 300.

Average Burden Per Response: 60 minutes.

Annual Burden Hours: 300.

Needs and Uses: The information collection requirement is being submitted as an emergency. The information collection requirement is necessary to obtain information in support of Executive Order 13806: Assessing and Strengthening the United States Manufacturing and Defense Industrial Base and Supply Chain Resiliency. The questionnaire is used to identify, assess, and make recommendations in support of a more robust industrial base.

Affected Public: Businesses or other for-profit.

Frequency: One Time.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 03F09, Alexandria, VA 22350-3100.

Dated: October 20, 2017.
Aaron Siegel,
Alternate OSD Federal Register, Liaison Officer, Department of Defense.

[FR Doc. 2017-23262 Filed 10-25-17; 8:45 am]

BILLING CODE 5001-06-P